DEPARTMENT OF COMMERCE

National Oceanic and Atmospheric Administration

[I.D. 022200A]

Submission for OMB Review; Comment Request

The Department of Commerce (DOC) has submitted to the Office of Management and Budget (OMB) for clearance the following proposal for collection of information under the provisions of the Paperwork Reduction Act (44 U.S.C. Chapter 35).

Agency: National Oceanic and Atmospheric Administration (NOAA).

Title: Capital Construction Fund—Deposit Report.

Agency Form Number(s): NOAA Form Number 38-42.

OMB Approval Number: 0648-0041.

Type of Request: Extension of a currently approved collection.

Burden: 1,650 hours.

Number of Respondents: 4,000.

Avg. Hours Per Response: 20 minutes (some respondents fill out more than one form).

Needs and Uses: Created by the Merchant Marine Act, the Capital Construction Fund program enables fishermen to construct, reconstruct, or refurbish vessels with before-tax, rather than after-ta dollars. Fishermen holding Capital Construction Fund Agreements are required to submit annual information on their deposits and withdrawals from their accounts. The information is used to check compliance with NOAA and IRS requirements.

Affected Public: Businesses or other-for profit organizations.

Frequency: Annually.

Respondent's Obligation: Mandatory.

OMB Desk Officer: David Rostker, (202) 395-3897.

Copies of the above information collection proposal can be obtained by calling or writing Linda Engelmeier, DOC Forms Clearance Officer, (202) 482-3272, Department of Commerce, Room 5027, 14th and Constitution Avenue, NW, Washington, DC 20230 (or via the Internet at LEngelme@doc.gov).

Written comments and recommendations for the proposed information collection should be sent within 30 days of publication of this notice to David Rostker, OMB Desk Officer, Room 10202, New Executive Office Building, 725 17th Street, NW, Washington, DC 20503.

Dated: February 17, 2000.
Linda Engelmeier,
Department Forms Clearance Officer, Office of the Chief Information Officer.

[FR Doc. 00-4476 Filed 2-24-00; 8:45 am]

BILLING CODE 3510-22-F